DEPARTMENT OF COMMERCE

International Trade Administration

[A-357-822, A-301-804, A-729-804, A-421-814, A-517-806, A-489-842, A-520-809]

Prestressed Concrete Steel Wire Strand From Argentina, Colombia, Egypt, the Netherlands, Saudi Arabia, the Republic of Turkey, and the United Arab Emirates: Preliminary Affirmative Determinations of Sales at Less Than Fair Value and Preliminary Affirmative Critical Circumstances Determinations, in Part

AGENCY: Enforcement and Compliance, International Trade Administration, Department of Commerce.

SUMMARY: The Department of Commerce (Commerce) preliminarily determines that prestressed concrete steel wire strand (PC strand) from Argentina, Colombia, Egypt, the Netherlands, Saudi Arabia, the Republic of Turkey (Turkey), and the United Arab Emirates (UAE) is being, or is likely to be, sold in the United States at less than fair value (LTFV). The period of investigation (POI) is April 1, 2019 through March 31, 2020. The estimated margins of sales at LTFV are shown in the “Preliminary Determinations” section of this notice. Interested parties are invited to comment on these preliminary determinations.

DATES: Applicable September 30, 2020.

FOR FURTHER INFORMATION CONTACT: Kabir Archuletta at (202) 482-2593 (Argentina); Hermes Pinilla at (202) 482-3477 (Colombia); David Crespo at (202) 482-3693 (Egypt); Bryan Hansen at (202) 482-3683 (the Netherlands); Drew Jackson at (202) 482-4406 (Saudi Arabia); David Goldberger at (202) 482-4136 (Turkey); and Charles Doss at (202) 482-4474 (UAE), AD/CVD Operations, Enforcement and Compliance, International Trade Administration, U.S. Department of Commerce, 1401 Constitution Avenue NW, Washington, DC 20230.

SUPPLEMENTARY INFORMATION:

Background

Commerce published the notice of initiation of these investigations on May 13, 2020.¹ Acindar Industria De Sinal S.A. (Acindar) is the sole mandatory respondent in the investigation covering PC strand from Argentina; Knight S.A.S. (Knight SAS) is the sole mandatory respondent in the investigation covering PC strand from Colombia; United Wires Company Elsewedy is the sole mandatory respondent in the investigation covering PC strand from Egypt; Nedri Spanstaal BV is the sole mandatory respondent in the investigation covering PC strand from the Netherlands; National Metal Manufacturing & Casting Co. (National Metal Manufacturing) is the sole mandatory respondent in the investigation covering PC strand from Saudi Arabia; Celik Halat ve Tel Sanayi A.S. (Celik Halat) and Güney Çelik Hasir ve Demir (Güney Celik) are the mandatory respondents in the investigation covering PC strand from Turkey; and GSS International Trading FZE (GSS) and Gulf Steel Strands FZE (Gulf Steel) are the mandatory respondents in the investigation covering PC strand from the UAE. For a complete description of the events that followed the initiation of these investigations, see the Preliminary Decision Memoranda.² A list of topics included in the Preliminary Decision Memoranda is included as Appendix II to this notice. The Preliminary Decision Memoranda are public documents and are made available to the public via Enforcement and Compliance's Antidumping and Countervailing Duty Centralized Electronic Service System (ACCESS). ACCESS is available to registered users at https://access.trade.gov. In addition, a complete version of the Preliminary Decision Memoranda can be accessed directly at http://enforcement.trade.gov/frn/. The signed and the electronic versions of the Preliminary Decision Memoranda are identical in content.

¹ See Prestressed Concrete Steel Wire Strand from Argentina, Colombia, Egypt, Indonesia, Italy, Malaysia, the Netherlands, Saudi Arabia, Spain, Taiwan, Tunisia, the Republic of Turkey, Ukraine, and the United Arab Emirates: Initiation of Less-Than-Fair Value Investigations, 85 FR 28605 (May 13, 2020) (Initiation Notice).

² See Memorandum, “Decision Memorandum for the Preliminary Determinations in the Less-Than-Fair-Value Investigations of Prestressed Concrete Steel Wire Strand from Argentina, Colombia, Egypt, the Netherlands, Saudi Arabia, Taiwan and the United Arab Emirates” dated concurrently with this notice; and Memorandum, “Decision Memorandum for the Preliminary Determination in the Less-Than-Fair Value Investigation of Prestressed Concrete Steel Wire Strand from Turkey,” dated concurrently with, and hereby adopted by, this notice (collectively, Preliminary Decision Memoranda).

Scope of the Investigations

The product covered by these investigations is PC strand. For a full description of the scope of these investigations, see the “Scope of the Investigations,” in Appendix I of this notice.

Scope Comments

In accordance with the Preamble to Commerce's regulations,³ the Initiation Notice set aside a period of time for parties to raise issues regarding product coverage (i.e., scope).⁴ However, Commerce received no comments on the scope of these investigations from interested parties.

³ See Antidumping Duties; Countervailing Duties; Final Rule, 62 FR 27296, 27323 (May 19, 1997) (Preamble).

⁴ See Initiation Notice, 85 FR at 28606.

Methodology

Commerce is conducting these investigations in accordance with section 731 of the Tariff Act of 1930, as amended (the Act). Pursuant to sections 776(a) and (b) of the Act, Commerce has preliminarily relied upon facts otherwise available to assign estimated weighted-average dumping margins to the mandatory respondents in these seven investigations because none of the respondents either submitted a response to Commerce's antidumping duty questionnaire, or submitted a timely response to Commerce's antidumping duty questionnaire. Further, Commerce is preliminarily determining that these mandatory respondents failed to cooperate by not acting to the best of their ability to comply with a request for information and is using an adverse inference when selecting from among the facts otherwise available (i.e., applying adverse facts available (AFA)) to these respondents, in accordance with section 776(b) of Act. For a full description of the methodology underlying our preliminary determinations, see the Preliminary Decision Memoranda.

Critical Circumstances

On August 24, 2020, the petitioners ⁵ timely filed critical circumstances allegations, pursuant to section 733(e)(1) of the Act and 19 CFR 351.206(c)(1), alleging that critical circumstances exist with respect to imports of the subject merchandise from Colombia, Egypt, and the Netherlands.⁶ On August 28, 2020, Commerce requested that the petitioners file an addendum to their critical circumstances allegation.⁷ In response, the petitioners filed an addendum providing the requested additional U.S. import data.⁸ We received no rebuttal information from interested parties.

⁵ The petitioners are Insteel Wire Products Company, Sumiden Wire Products Corporation, and Wire Mesh Corporation (collectively, the petitioners).

⁶ See Petitioners' Letter, “Prestressed Concrete Steel Wire Strand from Colombia, Egypt, and Netherlands—Petitioners' Allegation of Critical Circumstances,” dated August 24, 2020.

⁷ See Commerce's Letter dated August 28, 2020. Commerce asked the petitioners to provide U.S. import data for subject merchandise from Colombia, Egypt, and the Netherlands for February 2020 through April 2020, as the base period, and import data for May 2020 through July 2020, as the comparison period. Commerce also provided an opportunity for interested parties other than the petitioners to submit factual information to rebut, clarify, or correct factual information in the addendum.

⁸ See Petitioners' Letter, “Prestressed Concrete Steel Wire Strand from Colombia, Egypt, the Netherlands, Taiwan and Turkey—Petitioners' Updated Import Volume Data for Their Critical Circumstances Allegations,” dated September 8, 2020 (Addendum to Allegation).

On September 2, 2020, the petitioners timely filed a critical circumstances allegation, pursuant to section 733(e)(1) of the Act and 19 CFR 351.206(c)(1), alleging that critical circumstances exist with respect to imports of the PC strand from Turkey.⁹ Also on September 2, 2020, Commerce requested that Celik Halat provide monthly quantity and value (Q&V) data.¹⁰ On September 3, 2020, Commerce requested that the petitioners file an addendum to their critical circumstances allegation.¹¹ In response, Celik Halat filed the requested Q&V data and the petitioners filed an addendum providing the requested additional U.S. import data.¹² The petitioners did not file a critical circumstances allegation with respect to Argentina, Saudi Arabia, or the UAE.

⁹ See Petitioners' Letter, “Prestressed Concrete Steel Wire Strand from Taiwan and Turkey—Petitioners' Allegation of Critical Circumstances,” dated September 2, 2020.

¹⁰ See Commerce's Letter dated September 2, 2020.

¹¹ See Commerce's Letter dated September 3, 2020.

¹² See Celik Halat's Letter, “Pre-Stressed Concrete Steel Wire Strand from Turkey: Initial Critical Circumstances Response of Celik Halat ve Tel Sanayi A.S.,” dated September 4, 2020; and Addendum to Allegation.

Section 733(e)(1) of the Act provides that Commerce will preliminarily determine that critical circumstances exist in an LTFV investigation if there is a reasonable basis to believe or suspect that: (A) There is a history of dumping and material injury by reason of dumped imports in the United States or elsewhere of the subject merchandise, or the person by whom, or for whose account, the merchandise was imported knew or should have known that the exporter was selling the subject merchandise at less than its fair value and that there was likely to be material injury by reason of such sales; and (B) there have been massive imports of the subject merchandise over a relatively short period. We preliminarily determine that critical circumstances exist with respect to imports of PC strand exported by (1) Knight SAS from Colombia; (2) United Wires Company Elsewedy and all other producers/exporters from Egypt; (3) Nedri Spanstaal BV from the Netherlands; and (4) Celik Halat, Güney Celik, and all other producers/exporters from Turkey.¹³

¹³ For a full description of Commerce's preliminary critical circumstances determinations, see the Preliminary Decision Memoranda.

All-Others Rate

Sections 733(d)(1)(ii) of the Act provides that in the preliminary determination Commerce shall determine an estimated all-others rate for all exporters and producers not individually investigated, in accordance with section 735(c)(5) of the Act. Section 735(c)(5)(A) of the Act states that generally the estimated rate for all others shall be an amount equal to the weighted average of the estimated weighted-average dumping margins established for exporters and producers individually investigated, excluding any zero and de minimis margins, and any margins determined entirely under section 776 of the Act. The estimated weighted-average dumping margins in these preliminary determinations were determined entirely under section 776 of the Act. In cases where no weighted-average dumping margins other than zero, de minimis, or those determined entirely under section 776 of the Act have been established for individually examined entities, in accordance with section 735(c)(5)(B) of the Act, Commerce typically averages the margins alleged in the petitions and applies the results to all other entities not individually examined.

With respect to Argentina, in the Petitions,¹⁴ the petitioners calculated only one margin. Therefore, for the all-others rate in the investigation covering PC strand from Argentina, we preliminarily assigned the only margin alleged for subject merchandise from Argentina in the Petitions, which is 60.40 percent.¹⁵

¹⁴ See Petitioners' Letter, “Prestressed Concrete Steel Wire Strand from Argentina, Colombia, Egypt, Indonesia, Italy, Malaysia, Netherlands, Saudi Arabia, South Africa, Spain, Taiwan, Tunisia, Turkey, Ukraine, and United Arab Emirates—Petition for the Imposition of Antidumping and Countervailing Duties,” dated April 16, 2020 (the Petitions) at Volume II; and AD Investigation Initiation Checklist: Prestressed Concrete Steel Wire Strand from Argentina (May 6, 2020).

¹⁵ See, e.g., Notice of Final Determination of Sales at Less Than Fair Value: Sodium Nitrite from the Federal Republic of Germany, 73 FR 38986, 38987 (July 8, 2008), and accompanying Issues and Decision Memorandum at Comment 2; and AD Investigation Initiation Checklist: Argentina.

With respect to Colombia, in the Petitions,¹⁶ the petitioners calculated only one margin. Therefore, for the all-others rate in the investigation covering PC strand from Colombia, we preliminarily assigned the only margin alleged for subject merchandise from Colombia in the Petitions, as recalculated for the purposes of initiation, which is 86.09 percent.¹⁷

¹⁶ See Petitions at Volume III.

¹⁷ We note that the petitioners revised the calculated rate from that submitted in the Petitions. See Petitions at Volume III; and Petitioners' Letter, “Prestressed Concrete Steel Wire Strand from Argentina, Colombia, Egypt, Indonesia, Italy, Malaysia, Netherlands, Saudi Arabia, South Africa, Spain, Taiwan, Tunisia, Turkey, Ukraine, and United Arab Emirates—Petitioners' Amendment to Volume III Related to Antidumping Duties from Colombia,” dated April 27, 2020 at 4 and Exhibit AD-CO-SUPP-3; and AD Investigation Initiation Checklist: Colombia.

With respect to Egypt, in the Petitions,¹⁸ the petitioners calculated only one margin. Therefore, for the all-others rate in the investigation covering PC strand from Egypt, we preliminarily assigned the only margin alleged for subject merchandise from Egypt in the Petitions, as recalculated for the purposes of initiation, which is 29.72 percent.¹⁹

¹⁸ See Petitions at Volume IV.

¹⁹ We note that the petitioners revised the calculated rate from that submitted in the Petitions. See Petitions at Volume IV; Petitioners' Letter, “Prestressed Concrete Steel Wire Strand from Argentina, Colombia, Egypt, Indonesia, Italy, Malaysia, Netherlands, Saudi Arabia, South Africa, Spain, Taiwan, Tunisia, Turkey, Ukraine, and United Arab Emirates—Petitioners' Amendment to Volume IV Related to Antidumping Duties from Egypt,” dated April 27, 2020 at 4 and Exhibit AD-EG-SUPP-2; and AD Investigation Initiation Checklist: Prestressed Concrete Steel Wire Strand from Egypt.

With respect to the Netherlands, in the Petitions,²⁰ the petitioners calculated only one margin. Therefore, for the all-others rate in the investigation covering PC strand from the Netherlands, we preliminarily assigned the only margin alleged for subject merchandise from the Netherlands in the Petitions, which is 30.86 percent.²¹

²⁰ See Petitions at Volume VIII.

²¹ See AD Investigation Initiation Checklist: Prestressed Concrete Steel Wire Strand from the Netherlands.

With respect to Saudi Arabia, in the Petitions,²² the petitioners calculated only one margin. Therefore, for the all-others rate in the investigation covering PC strand from Saudi Arabia, we preliminarily assigned the only margin alleged for subject merchandise from Saudi Arabia in the Petitions, which is 194.40 percent.²³

²² See Petitions at Volume IX.

²³ See AD Investigation Initiation Checklist: Prestressed Concrete Steel Wire Strand from Saudi Arabia.

With respect to Turkey, in the Petitions,²⁴ the petitioners calculated only one margin. Therefore, for the all-others rate in the investigation covering PC strand from Turkey, we preliminarily assigned the only margin alleged for subject merchandise from Turkey in the Petitions, which is 53.65 percent.²⁵

²⁴ See Petitions at Volume XIV.

²⁵ See AD Investigation Initiation Checklist: Prestressed Concrete Steel Wire Strand Turkey.

With respect to the UAE, in the Petitions,²⁶ the petitioners calculated only one margin. Therefore, for the all-others rate in the investigation covering PC strand from the UAE, we preliminarily assigned the only margin alleged for subject merchandise from the UAE in the petitions, as recalculated for the purposes of initiation, which is 170.65 percent.²⁷

²⁶ See Petitions at Volume XVI.

²⁷ We note that the petitioners revised the calculated rate from that submitted in the petitions. See Petitions at Volume XVI; and Petitioners' Letter, “Prestressed Concrete Steel Wire Strand from Argentina, Colombia, Egypt, Indonesia, Italy, Malaysia, Netherlands, Saudi Arabia, South Africa, Spain, Taiwan, Tunisia, Turkey, Ukraine, and United Arab Emirates—Petitioners' Amendment to Volume XVI Related to Antidumping Duties from the United Arab Emirates,” dated April 27, 2020 at 4 and Exhibit AD-AE-SUPP-3; and AD Investigation Initiation Checklist: Prestressed Concrete Steel Wire Strand from the United Arab Emirates.

Preliminary Determinations

Commerce preliminarily determines that the following estimated weighted-average dumping margins exist during the period April 1, 2019 through March 31, 2020:

Argentina
Exporter/producer | Dumping margin (percent)
Acindar Industria (Argentina) de Sinal S.A. | 60.40
All Others | 60.40

Colombia
Exporter/producer | Dumping margin (percent)
Knight SAS | 86.09
All Others | 86.09

Egypt
Exporter/producer | Dumping margin (percent)
United Wires Company Elsewedy | 29.72
All Others | 29.72

The Netherlands
Exporter/producer | Dumping margin (percent)
Nedri Spanstaal B.V. | 30.86
All Others | 30.86

Saudi Arabia
Exporter/producer | Dumping margin (percent)
National Metal Manufacturing & Casting Co. | 194.40
All Others | 194.40

Turkey
Exporter/producer | Dumping margin (percent)
Celik Halat ve Tel Sanayi A.S. | 53.65
Güney Çelik Hasir ve Demir | 53.65
All Others | 53.65

United Arab Emirates
Exporter/producer | Dumping margin (percent)
GSS International Trading FZE | 170.65
Gulf Steel Strands FZE | 170.65
All Others | 170.65

Suspension of Liquidation

In accordance with section 733(d)(2) of the Act, Commerce will direct U.S. Customs and Border Protection (CBP) to suspend liquidation of all entries of PC strand from Argentina, Colombia, Egypt, the Netherlands, Saudi Arabia, Turkey, and the UAE, as described in the “Scope of the Investigations” in Appendix I, entered, or withdrawn from warehouse, for consumption on or after the date of publication of this notice in the Federal Register.

Further, section 733(e)(2) of the Act provides that, given an affirmative determination of critical circumstances, any suspension of liquidation shall apply to unliquidated entries of merchandise entered, or withdrawn from warehouse, for consumption on or after the later of: (a) The date which is 90 days before the date on which the suspension of liquidation was first ordered; or (b) the date on which notice of initiation of the investigation was published. In accordance with 733(e)(2)(A), suspension of liquidation of PC strand from Colombia, Egypt, the Netherlands, and Turkey as described in the “Scope of the investigations” in Appendix I, shall apply to unliquidated entries of merchandise from imports of PC strand exported by: (1) Knight SAS from Colombia; (2) United Wires Company Elsewedy and all other producers/exporters from Egypt; (3) Nedri Spanstaal BV from the Netherlands; and (4) Celik Halat, Güney Celik, and all other producers/exporters from Turkey, that are entered, or withdrawn from warehouse, for consumption on or after the date which is 90 days before the publication of this notice, the date suspension of liquidation is first ordered.

We will also instruct CBP, pursuant to section 733(d)(1)(B) of the Act and 19 CFR 351.205(d) to require a cash deposit equal to the margins indicated in the charts above. These suspension of liquidation instructions will remain in effect until further notice.

Verification

Because each mandatory respondent in these investigations did not act to the best of their ability to provide information requested by Commerce, and Commerce preliminarily determines each of the mandatory respondents to be uncooperative, we will not conduct verifications.

Disclosure

Normally, Commerce discloses to interested parties the calculations performed in connection with a preliminary determination within five days of any public announcement or, if there is no public announcement, within five days of the date of publication of the notice of preliminary determination in the Federal Register, in accordance with 19 CFR 351.224(b). However, because Commerce preliminarily applied AFA to each mandatory respondent in these investigations, in accordance with section 776 of the Act, there are no calculations to disclose.

Public Comment

Interested parties are invited to comment on these preliminary determinations no later than 30 days after the date of publication of these preliminary determinations.²⁸ Rebuttal briefs, limited to issues raised in case briefs, may be submitted no later than seven days after the deadline date for case briefs.²⁹ Pursuant to 19 CFR 351.309(c)(2) and (d)(2), parties who submit case briefs or rebuttal briefs in these proceedings are encouraged to submit with each argument: (1) A statement of the issue; (2) a brief summary of the argument; and (3) a table of authorities.

²⁸ See 19 CFR 351.309(c)(1)(i); see also 19 CFR 351.303 (for general filing requirements).

²⁹ See 19 CFR 351.309(d); see also 19 CFR 351.303 (for general filing requirements).

Pursuant to 19 CFR 351.310(c), interested parties who wish to request a hearing, limited to issues raised in the case and rebuttal briefs, must submit a written request to the Assistant Secretary for Enforcement and Compliance, U.S. Department of Commerce, within 30 days after the date of publication of this notice. Requests should contain: (1) The party's name, address, and telephone number; (2) the number of participants and whether any participant is a foreign national; and (3) a list of the issues to be discussed. If a request for a hearing is made, Commerce intends to hold the hearing at a time and date to be determined. Parties should confirm by telephone the date, time, and location of the hearing two days before the scheduled date.

An electronically-filed document must be received successfully in its entirety by ACCESS by 5:00 p.m. Eastern Time on the established deadline. Note that Commerce has temporarily modified certain of its requirements for serving documents containing business proprietary information, until further notice.³⁰

³⁰ See Temporary Rule Modifying AD/CVD Service Requirements Due to COVID-19; Extension of Effective Period, 85 FR 41363 (July 10, 2020).

Final Determinations

Section 735(a)(1) of the Act and 19 CFR 351.210(b)(1) provide that Commerce will issue the final determination within 75 days after the date of its preliminary determination. Accordingly, Commerce will make its final determinations no later than 75 days after the signature date of these preliminary determinations.

International Trade Commission Notification

In accordance with section 733(f) of the Act, Commerce will notify the International Trade Commission (ITC) of our affirmative preliminary determinations. If our final determinations are affirmative, the ITC will determine before the later of 120 days after the date of these preliminary determinations or 45 days after our final determinations whether these imports are materially injuring, or threaten material injury to, the U.S. industry.

Notification to Interested Parties

These determinations are issued and published in accordance with sections 733(f) and 777(i)(1) of the Act and 19 CFR 351.205(c).

Dated: September 23, 2020.
Jeffrey I. Kessler,
Assistant Secretary for Enforcement and Compliance.

Appendix I

Scope of the Investigations

The merchandise covered by these investigations is prestressed concrete steel wire strand (PC strand), produced from wire of non-stainless, non-galvanized steel, which is suitable for use in prestressed concrete (both pretensioned and post-tensioned) applications. The product definition encompasses covered and uncovered strand and all types, grades, and diameters of PC strand. PC strand is normally sold in the United States in sizes ranging from 0.25 inches to 0.70 inches in diameter. PC strand made from galvanized wire is only excluded from the scope if the zinc and/or zinc oxide coating meets or exceeds the 0.40 oz./ft2 standard set forth in ASTM-A-475.

The PC strand subject to these investigations is currently classifiable under subheadings 7312.10.3010 and 7312.10.3012 of the Harmonized Tariff Schedule of the United States (HTSUS). Although the HTSUS subheadings are provided for convenience and customs purposes, the written description of the scope of these investigations is dispositive.

Appendix II

List of Topics Discussed in the Preliminary Decision Memoranda

I. Summary

II. Background

III. Period of Investigation

IV. Scope of the Investigations

V. Application of Facts Available, Use of Adverse Inferences, and Calculation of All-Others Rate

VI. Preliminary Critical Circumstances Findings

VII. Conclusion

[FR Doc. 2020-21546 Filed 9-29-20; 8:45 am]

BILLING CODE 3510-DS-P